DEPARTMENT OF AGRICULTURE

Animal and Plant Health Inspection Service

9 CFR Part 94

[Docket No. 01-032-2]

Prohibition of Beef From Argentina

AGENCY: Animal and Plant Health inspection Service, USDA

ACTION: Affirmation of interim rule as final rule.

SUMMARY: We are adopting as a final rule, without change, an interim rule that amended the regulations by removing the provisions for the importation of fresh (chilled or frozen) beef from Argentina and by removing the exemptions that allowed cured or cooked beef to be imported from Argentina under certain conditions without meeting the requirements of the regulations regarding cured and cooked meat from regions where rinderpest or foot-and-mouth disease exists. We took those actions after the existence of foot-and-mouth disease was confirmed in Argentina. The effect of the interim rule was to prohibit the importation of any fresh (chilled or frozen) beef from Argentina and to prohibit the importation of any cooked or cured beef from Argentina that does not meet the requirements of the regulations regarding cured and cooked meat from regions where rinderpest or foot-and-mouth disease exists. We took those actions as an emergency measure to protect the livestock of the United States from foot-and-mouth disease.

DATES: The interim rule became effective on February 19, 2001.

FOR FURTHER INFORMATION CONTACT: Dr. Gary Colgrove, Chief Staff Veterinarian, National Center for Import and Export, VS APHIS, 4700 River Road Unit 38, Riverdale, MD 20737-1231; (301) 734-3276.

SUPPLEMENTARY INFORMATION:

Background

In an interim rule effective on February 19, 2001, and published in the Federal Register on June 4, 2001 (66 FR 29897-29899, Docket No. 01-032-1), we amended the regulations in 9 CFR part 94 by removing the provisions for the importation of fresh (chilled or frozen) beef from Argentina and by removing the exemptions that allowed cured or cooked beef to be imported from Argentina under certain conditions without meeting the requirements of the regulations regarding cured and cooked meat from regions where rinderpest or foot-and-mouth disease exists. The effect of that action was to prohibit the importation of any fresh (chilled or frozen) beef from Argentina and to prohibit the importation of any cooked or cured beef from Argentina that does not met the requirements of the regulations regarding cured and cooked meat from regions where rinderpest or foot-and-mouth disease exists.

Comments on the interim rule were required to be received on or before August 3, 2001. We received one comment, which supported the interim rule. Therefore, for the reasons given in the interim rule, we are adopting the interim rule as a final rule without change.

This action also affirms the information contained in the interim rule concerning Executive Order 12866 and the Regulatory Flexibility Act, Executive Order 12988, and the Paperwork Reduction Act.

Further, for this action, the Office of Management and Budget has waived the review process required by Executive Order 12866.

List of Subjects in 9 CFR Part 94

Animal diseases, Imports, Livestock, Meat and meat products, Milk, Poultry and poultry products, Reporting and recordkeeping requirements.

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

Accordingly, we are adopting as a final rule, without change, the interim rule that amended 9 CFR part 94 and that was published at 66 FR 29897-29899 on June 4, 2001.

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

Done in Washington, DC, this 6th day of December 2001.
W. Ron DeHaven,
Acting Administrator, Animal and Plant Health Inspection Service.

[FR Doc. 01-30602 Filed 12-10-01; 8:45 am]

BILLING CODE 3410-34-U